DEPARTMENT OF TRANSPORTATION

Federal Aviation Administration

14 CFR Part 71

[Docket No. FAA-2024-2099; Airspace Docket No. 24-AWP-105]

RIN 2120-AA66

Modification of Class E Airspace; Battle Mountain Airport, Battle Mountain, NV

AGENCY: Federal Aviation Administration (FAA), DOT.

ACTION: Final rule.

SUMMARY: This action modifies the Class E airspace area designated as a surface area, modifies the Class E airspace area designated as an extension to a Class E surface area, and modifies the Class E airspace areas extending upward from 700 feet or more above the surface of the earth at Battle Mountain Airport, Battle Mountain, NV. This action also updates the administrative portions of the airport's legal descriptions. These actions support the safety and management of instrument flight rules (IFR) operations at the airport.

DATES: Effective date 0901 UTC, January 22, 2026. The Director of the Federal Register approves this incorporation by reference action under 1 CFR part 51, subject to the annual revision of FAA Order JO 7400.11 and publication of conforming amendments.

ADDRESSES: A copy of the notice of proposed rulemaking (NPRM), supplemental notice of proposed rulemaking (SNPRM), all comments received, this final rule, and all background material may be viewed online at www.regulations.gov using the FAA Docket number. Electronic retrieval help and guidelines are available on the website. It is available 24 hours each day, 365 days each year. An electronic copy of this document may also be downloaded from www.federalregister.gov.

FAA Order JO 7400.11K, Airspace Designations and Reporting Points, and subsequent amendments can be viewed online at www.faa.gov/air_traffic/publications/.

FOR FURTHER INFORMATION CONTACT: Nathan A. Chaffman, Federal Aviation Administration, Western Service Center, Operations Support Group, 2200 S 216th Street, Des Moines, WA 98198; telephone (206) 231-3460.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies Class E airspace to support IFR operations at Battle Mountain Airport, Battle Mountain, NV.

History

The FAA published an NPRM for Docket No. FAA-2024-2099 in the Federal Register (90 FR 1050; January 7, 2025), proposing to establish and modify Class E airspace at Battle Mountain Airport, Battle Mountain, NV. Interested parties were invited to participate in this rulemaking effort by submitting written comments on the proposal to the FAA. No comments were received.

After publication of the NPRM, it was discovered that the Class E airspace designated as an extension to a Class E surface area at Battle Mountain Airport, Battle Mountain, NV, had previously been established within the final rule of Docket No. FAA-2019-0786 in the Federal Register (85 FR 18870; April 3, 2020). As a result, the FAA published an SNPRM (90 FR 21249; May 19, 2025), revising the proposed action to be a modification rather than establishment of new Class E airspace, and re-initiating the public comment phase of rulemaking. The SNPRM also corrected the airspace docket number to read “24-AWP-105.” Interested parties were again invited to participate in this rulemaking effort by submitting written comments on the proposal to the FAA. No comments were received.

Differences From the SNPRM

The FAA has since identified an error within the SNPRM (90 FR 21249; May 19, 2025) concerning the proposed legal description for Battle Mountain's Class E airspace designated as an extension to a Class E surface area. The legal description excluded “that airspace within the Battle Mountain Airport Class E2.” FAA Order JO 7400.2R, Procedures for Handling Airspace Matters, does not allow for Class E airspace to be excluded from other airspace areas, so the exclusionary language was removed. Additionally, the same legal description required the term “airports” be added for clarity. Proposed or actual lateral boundaries are not affected by this difference. The FAA has determined that good cause exists that recirculating the proposal for public notice and comment is unnecessary as these corrections are ministerial in nature and do not impose additional operating requirements on regulated parties.

Incorporation by Reference

Class E2, E4, and E5 airspace areas are published in paragraphs 6002, 6004, and 6005, respectively, of FAA Order JO 7400.11, Airspace Designations and Reporting Points, which is incorporated by reference in 14 CFR 71.1 on an annual basis. This document amends the current version of that order, FAA Order JO 7400.11K, dated August 4, 2025, and effective September 15, 2025. These amendments will be published in the next update to FAA Order JO 7400.11. FAA Order JO 7400.11K, which lists Class A, B, C, D, and E airspace areas, air traffic service routes, and reporting points, is publicly available as listed in the ADDRESSES section of this document.

The Rule

The FAA is amending 14 CFR part 71 by modifying the Class E airspace area designated as surface area, modifying the Class E airspace area designated as an extension to a Class E surface area, modifying the Class E airspace extending upward from 700 feet above the surface of the earth, and removing the Class E airspace extending upward from 1,200 feet above the surface at Battle Mountain Airport, Battle Mountain, NV.

The Class E airspace area designated as surface area is expanded from a 4.2-mile radius to a 4.4-mile radius and a 0.1-mile extension is added to the southwest of the airport to more appropriately contain departing IFR aircraft executing the Runway (RWY) 22 obstacle departure procedure while between the surface and the base of adjacent controlled airspace.

Class E airspace designated as an extension to a Class E surface area is realigned to the 221° bearing and expanded to contain arriving IFR aircraft on the very high frequency omnidirectional range (VOR) RWY 4 approach procedure while below 1,000 feet above the surface.

Moreover, the Class E airspace extending upward from 700 feet above the surface is expanded to a 5-mile radius through all but the northwest portion to better contain arriving IFR aircraft operating below 1,500 feet and departing IFR aircraft until reaching 1,200 feet above the surface. The northeast extension is realigned to the airport's 051° bearing and is expanded to more appropriately contain arriving IFR aircraft below 1,500 feet above the surface while executing the Area Navigation (RNAV) (Global Positioning System [GPS]) RWY 22 approach procedure. The southwest extension is reduced approximately 5 miles to better contain arriving IFR aircraft operating below 1,500 feet above the surface while executing the VOR RWY 4 or RNAV (GPS) RWY 4 approach procedures, departing IFR aircraft while executing the RNAV (GPS) RWY 13 or RNAV (GPS) RWY 33 departure procedures, and IFR aircraft ascending via the RNAV (GPS) RWY 22 missed approach procedure until reaching 1,200 feet above the surface. The northwest portion of the central radius is reduced in size to more appropriately contain IFR aircraft departing RWY 31 until reaching 1,200 feet above the surface.

Furthermore, the Battle Mountain Class E airspace beginning at 1,200 feet above the surface is removed as it is redundant. The Battle Mountain and Rome Class E6 airspace areas provide sufficient containment of transitional operations.

Finally, the administrative portion of the airport's legal description is updated. Reference to the Battle Mountain very high frequency omnidirectional range tactical air navigation (VORTAC) on line three of the Class E5 legal description is no longer needed and is removed. The airspace is now described using only the airport reference point.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1G, FAA National Environmental Policy Act Implementing Procedures, paragraph B-2.5. This airspace action is not expected to cause any potentially significant environmental impacts, and no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11K, Airspace Designations and Reporting Points, dated August 4, 2025 and effective September 15, 2025, is amended as follows:

Paragraph 6002 Airspace Areas Designated as Surface Area

* * * * *

ANM NV E2 Battle Mountain, NV [Amended]

Battle Mountain Airport, NV

(Lat. 40°35′57″ N, long. 116°52′28″ W)

That airspace extending upward from the surface within a 4.4-mile radius of the airport and within 1.8 miles southeast and 1.9 miles northwest of the 228° bearing extending from the 4.4-mile radius to 4.5 miles southwest of the airport.

* * * * *

Paragraph 6004 Airspace Areas Designated as an Extension to a Class D or Class E Surface Area

* * * * *

ANM NV E4 Battle Mountain, NV [Amended]

Battle Mountain Airport, NV

(Lat. 40°35′57″ N, long. 116°52′28″ W)

That airspace extending upward from the surface within 2.9 miles southeast and 3.4 miles northwest of the 221° bearing extending from the airport's 4.4-mile radius to 10.4 miles southwest of the airport.

* * * * *

Paragraph 6005 Class E Airspace Areas Extending Upward From 700 Feet or More Above the Surface of the Earth.

* * * * *

ANM NV E5 Battle Mountain, NV [Amended]

Battle Mountain Airport, NV

(Lat. 40°35′57″ N, long. 116°52′28″ W)

That airspace extending upward from 700 feet above the surface within a 5-mile radius of the airport, within 4.9 miles northwest and 1.9 miles southeast of the 051° bearing extending from the 5-mile radius to 11.1 miles northeast of the airport, within 3.5 miles southeast and 3.6 miles northwest of the 221° bearing extending from the 5-mile radius to 11.5 miles southwest of the airport, within 1.8 miles either side of the 319° bearing extending from the 5-mile radius to 6.7 miles northwest of the airport, and within a 5.5-mile radius clockwise from the 319° bearing to the 349° bearing from the airport.

* * * * *

Issued in Des Moines, Washington, on September 25, 2025.
B.G. Chew,
Group Manager, Operations Support Group, Western Service Center.

[FR Doc. 2025-18989 Filed 9-29-25; 8:45 am]

BILLING CODE 4910-13-P